DEPARTMENT OF TRANSPORTATION

Transportation Security Administration

Intercity Bus Security Grant Program; Application Notice Describing the Program Priorities and Establishing the Closing Date for Receipt of Applications Under the Intercity Bus Security Grant Program.

AGENCY: Transportation Security Administration, Department of Transportation.

ACTION: Notice inviting applications for the Intercity Bus Security Grant Program.

SUMMARY: The Intercity Bus Security Grant Program will improve security for operators and passengers by providing financial assistance to eligible applicants for intercity bus security enhancements and training.

The Intercity Bus Security Grant Program priorities are as follows: The order of listing does not indicate the level of priority. (1) Protecting or isolating the driver, (2) Monitoring, tracking, and communication technologies for over-the-road buses, (3) Implementing and operating passenger and baggage screening programs at terminals and over-the-road buses, (4) Developing an effective security assessment/security plan that identifies critical security needs and vulnerabilities; and (5) Training driver, dispatchers, ticket agents, and other personnel in recognizing and responding to criminal attacks and terrorists threats, evacuation procedures, passenger screening procedures, and baggage inspection.

Proposals that address other than these five programs priorities will be considered but preference will be given to proposals that address program priorities. Applications may be submitted by private and public operators of over-the-road buses, bus associations and other associations related to the intercity bus industry. The Transportation Security Administration is coordinating with the Federal Motor Carrier Safety Administration and Federal Transit Administration in this effort. Authority for this program is contained in the fiscal year 2002 Supplemental Appropriations Act for Further Recovery From and Response to Terrorist Attacks on the United States, Pub. L. 107-206, 116 Stat. 820.

DATES: The program announcement and application forms for the Intercity Bus Security Grant Program are expected to be available on or about January 17, 2003. Applications must be received on or before 4 p.m. EST, February 28, 2003.

ADDRESSES: Program Announcement #02MLPA0002 for the Intercity Bus Security Grant Program will be available through the TSA Internet at http://www.tsa.dot.gov under Business Opportunities.

FOR FURTHER INFORMATION CONTACT: Ms. Mary Heying, Transportation Security Administration, Office of Maritime and Land Security, 400 7th Street, SW., TSA-8, Washington, DC 20590, (202) 772-1118, e-mail: Mary.Heying@tsa.dot.gov.

SUPPLEMENTARY INFORMATION: Total anticipated funding available for Intercity Bus Security Grant Program is $14,850,000. Awards under this program are subject to availability of funds.

Dated: January 8, 2003.
J.M. Loy, ADM,
Under Secretary of Transportation for Secrity.

[FR Doc. 03-1142 Filed 1-16-03; 8:45 am]

BILLING CODE 4110-62-M